DEPARTMENT OF THE TREASURY

Submission for OMB Review; Comment Request

January 2, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 10, 2003 to be assured of consideration.

Internal Revenue Service (IRS)

OMB Number: 1545-0913.

Regulation Project Number: FI-165-84 NPRM.

Type of Review: Extension.

Title: Below-Market Loans.

Description: Section 7872 recharacterizes a below-market loan as a market rate loan and an additional transfer by the lender to the borrower equal to the amount of imputed interest. The regulation requires both the lender and the borrower to attach a statement to their respective income tax returns for years in which they have either imputed income or claim imputed deductions under section 7872.

Respondents: Business or other for-profit, Individuals or households.

Estimated Number of Respondents: 1,631,202.

Estimated Burden Hours Per Respondent: 18 minutes.

Frequency of Response: On occasion, Annually.

Estimated Total Reporting Burden: 481,722 hours.

OMB Number: 1545-0916.

Regulation Project Number: EE-96-85 NPRM and EE-63-84 Temporary.

Type of Review: Extension.

Title: Effective Dates and Other Issues Arising Under the Employee Benefit Provisions of the Tax Reform Act of 1984.

Description: These temporary regulations provide rules relating to effective dates and other issues arising under section 91, 223 and 511-561 of the Tax Reform Act of 1984.

Respondents: Business or other for-profit, Individuals or households, Not-for-profit institutions.

Estimated Number of Respondents: 12,800.

Estimated Burden Hours Per Respondent: 31 minutes.

Frequency of Response: On occasion.

Estimated Total Reporting Burden: 6,500 hours.

OMB Number: 1545-1018.

Regulation Project Number: FI-27-89 Temporary and Final and FI-61-91 Final.

Type of Review: Extension.

Title: Real Estate Mortgage Investment Conduits; Reporting Requirements and Other Administrative Matters (FI-27-89); Allocation of Allocable Investment Expense; Original Issue Discount Reporting Requirements (FI-61-91).

Description: The regulations prescribe the manner in which an entity elects to be taxed as a real estate mortgage investment conduit (REMIC) and the filing requirements for REMICs and certain brokers.

Respondents: Business or other for-profit.

Estimated Number of Respondents: 655.

Estimated Burden Hours Per Respondent: 1 hour, 30 minutes.

Frequency of Response: Quarterly.

Estimated Total Reporting Burden: 978 hours.

OMB Number: 1545-1041.

Regulation Project Number: PS-102-86 Final.

Type of Review: Extension.

Title: Cooperative Housing Corporations.

Description: This regulation provides an elective alternative to the proportionate share rule for allocating interest and taxes to the tenant-stockholders of cooperative housing corporations.

Respondents: Business or other for-profit, Individuals or households.

Estimated Number of Respondents: 2,500.

Estimated Burden Hours Per Respondent: 15 minutes.

Frequency of Response: Other (one-time election).

Estimated Total Reporting Burden: 625 hours.

OMB Number: 1545-1356.

Regulation Project Number: REG-248770-96 Final.

Type of Review: Extension.

Title: Miscellaneous Sections Affected by the Taxpayer Bill of Rights 2 and the Personal Responsibility and Work Opportunity Reconciliation Act of 1996.

Description: The regulations provide guidance with respect to the recovery of administrative costs incurred in connection with an administrative proceeding before the Internal Revenue Service. Procedures that must be followed to recover such costs are set forth.

Respondents: Individuals or households, Business or other for-profit, Not-for-profit institutions, Farms, Federal Government.

Estimated Number of Respondents: 38.

Estimated Burden Hours Per Respondent: 2 hours, 16 minutes.

Frequency of Response: On occasion.

Estimated Total Reporting Burden: 86 hours.

Clearance Officer: Glenn Kirkland, (202) 622-3428, Internal Revenue Service, Room 6411-03, 1111 Constitution Avenue, NW, Washington, DC 20224.

Reviewer: Joseph F. Lackey, Jr., (202) 395-7316, Office of Management and Budget, Room 10235, New Executive Office Building, Washington, DC 20503.

Mary A. Able,
Departmental Reports, Management Officer.

[FR Doc. 03-366 Filed 1-8-03; 8:45 am]

BILLING CODE 4830-01-P